DEPARTMENT OF TRANSPORTATION

Office of the Secretary

Aviation Proceedings, Agreements Filed the Week Ending November 18, 2005

The following Agreements were filed with the Department of Transportation under the Sections 412 and 414 of the Federal Aviation Act, as amended (49 U.S.C. 1382 and 1384) and procedures governing proceedings to enforce these provisions. Answers may be filed within 21 days after the filing of the application.

Docket Number: OST-2005-23066.

Date Filed: November 15, 2005.

Parties: Members of the International Air Transport Association.

Subject: TC31 North and Central Pacific, Bangkok, 24 October-1 November 2005, TC3-Central, South America Resolution 002bq, Intended effective date: 15 December 2005.

Docket Number: OST-2005-23067.

Date Filed: November 15, 2005.

Parties: Members of the International Air Transport Association.

Subject: TC31 North and Central Pacific, Bangkok, 24 October-1 November 2005, Korea (Rep. Of), Malaysia—USA, Expedited Resolution 002na, Intended effective date: 15 December 2005.

Docket Number: OST-2005-23068.

Date Filed: November 15, 2005.

Parties: Members of the International Air Transport Association.

Subject: TC3 (except Japan)-North America, Caribbean), (except between Korea (Rep. of), Malaysia-USA), Expedited Resolution 002bi, Intended effective date: 15 December 2005.

Docket Number: OST-2005-23069.

Date Filed: November 15, 2005.

Parties: Members of the International Air Transport Association.

Subject: TC31 North and Central Pacific, Bangkok, 21 September-1 November 2005, TC3-Central, South America Expedited Resolution, Intended effective date: 1 January 2006.

Docket Number: OST-2005-23070.

Date Filed: November 15, 2005.

Parties: Members of the International Air Transport Association.

Subject: TC3 (except Japan)-North America, Caribbean), (except between Korea (Rep. of), Malaysia-USA), Expedited Resolution 002bn, Intended effective date: 1 January 2006.

Renee V. Wright,
Program Manager, Docket Operations, Federal Register Liaison.

[FR Doc. E5-6988 Filed 12-6-05; 8:45 am]

BILLING CODE 4910-62-P